NUCLEAR REGULATORY COMMISSION

[NRC-2010-0131]

Notice of Withdrawal of Final Design Approval; Westinghouse Electric Company; Advanced Passive 1000

By letter dated December 10, 2010, Westinghouse Electric Company (WEC) requested that the U.S. Nuclear Regulatory Commission (NRC or the Commission) “retire” the final design approval (FDA) for the Advanced Passive 1000 (AP1000) design upon the completion of rulemaking for the amendment to the AP1000 design and the issuance of the amended AP1000 design certification (DCR) rule in part 52 of Title 10 of the Code of Federal Regulations (10 CFR). The FDA issued on March 10, 2006, and found under NRC's Agencywide Documents Access and Management System (ADAMS) Accession No. ML060110467, referenced Revision 15 of the AP1000 design control document (DCD).

As amended on August 28, 2007, the design approval process under 10 CFR Part 52 no longer requires an FDA as a prerequisite to a DCR, but is instead a separate licensing process. WEC's application to amend the AP1000 DCR did not request an update to the AP1000 FDA.

The NRC staff completed its review of Revision 19 to WEC's AP1000 DCD on August 5, 2011, and issued Supplement 2 to NUREG-1793, “Final Safety Evaluation Report for Revision 19 to the AP1000 Standard Design Certification” (FSER), in September 2011. On December 30, 2011, the NRC published in the Federal Register a final rule to amend 10 CFR Part 52, Appendix D, to certify the amended AP1000 design. As a result, there are now two different NRC-approved versions of the AP1000 design—an FDA for Revision 15 of the AP1000 DCD and a DCR for Revision 19 of the AP1000 DCD. The NRC staff's practice in initial certification of the four current DCRs was to request that the FDA holder update the Final Safety Analysis Report supporting the FDA (essentially the DCD) to reflect the version of the DCD approved and incorporated by reference as part of the final DC rulemaking. This practice was intended to ensure that there would be only a single version of the design approved both by the FDA and the DCR. WEC's letter of December 10, 2010, indicates its preference not to update the FDA to reflect Revision 19 of the DCD, but instead for the FDA to be “retired.”

Based on the certification of the amended AP1000 design, which has superseded the previous AP1000 DCR in 10 CFR part 52, Appendix D, the NRC staff agrees that the AP1000 FDA can be “retired” (i.e., withdrawn by the NRC) as WEC has voluntarily requested. The NRC therefore withdraws the FDA for the AP1000 design. The NRC has communicated this determination to WEC, (see ADAMS Accession No. ML12202A071). As a result, combined license applicants seeking to reference the AP1000 design will need to reference the DC rule in lieu of the FDA.

Copies of the AP1000 FSER (NUREG-1793, Supplements 1 and 2) and FDA have been placed in the NRC's Public Document Room, One White Flint North, 11555 Rockville Pike, Rockville, Maryland 20852, for review and copying by interested persons.

Dated at Rockville, Maryland, this 31st day of August 2012.
For the Nuclear Regulatory Commission.
David B. Matthews,
Director, Division of New Reactor Licensing, Office of New Reactors.

[FR Doc. 2012-22443 Filed 9-11-12; 8:45 am]

BILLING CODE 7590-01-P